DEPARTMENT OF AGRICULTURE

Forest Service

Forest Service Handbook 2309.13, Chapter 50; Operation and Maintenance of Developed Recreation Sites

AGENCY: Forest Service, USDA.

ACTION: Notice of availability for public comment.

SUMMARY: The United States Department of Agriculture (USDA), Forest Service is proposing to issue a proposed directive to update its handbook on operation and maintenance of recreation sites on National Forest System lands that contain infrastructure or amenities authorized by the Forest Service for public enjoyment and resource protection. Examples of developed recreation sites include boat launches, campgrounds, climbing areas, day use areas, picnic sites, fishing sites, group campgrounds and picnic sites, horse camps, informational and interpretive sites, visitor centers, recreation rental cabins, observation sites, off-highway vehicle staging areas, alpine and Nordic ski areas, developed swimming sites, snow play areas, target ranges, trailheads, and wildlife viewing sites.

DATES: Comments must be received in writing by August 10, 2020.

ADDRESSES: Comments may be submitted electronically to https://cara.ecosystem-management.org/Public/CommentInput?project=ORMS-2226. Written comments may be mailed to Director, Recreation Staff, 1400 Independence Avenue SW, Washington, DC 20250-1124. All timely received comments, including names and addresses, will be placed in the record and will be available for public inspection and copying. The public may inspect comments received at https://cara.ecosystem-management.org/Public/ReadingRoom?project=ORMS-2226.

FOR FURTHER INFORMATION CONTACT: Matt Arnn, Recreation Staff, (917) 597-6488, matthew.arnn@usda.gov or joey.perry@usda.gov. Individuals who use telecommunication devices for the deaf may call the Federal Relay Service at 800-877-8339 between 8:00 a.m. and 8:00 p.m., Eastern Standard Time, Monday through Friday.

SUPPLEMENTARY INFORMATION: This handbook sets forth direction for the operation and maintenance of recreation sites by the Forest Service. Chapter 50 recodes to this Forest Service Handbook chapter direction that is currently set out in FSM 2332 governing construction, operation, and maintenance of recreation sites by the Forest Service. In addition, Chapter 50 includes direction on procedures for assuming operation of a concession site during a shoulder season.

After the public comment period closes, the Forest Service will consider timely comments that are within the scope of the proposed directives in the development of the final directives. A notice of the final directives, including a response to timely comments, will be posted on the Forest Service's web page at https://www.fs.fed.us/about-agency/regulations-policies.

Tina Johna Terrell,
Associate Deputy Chief, National Forest System.

[FR Doc. 2020-14785 Filed 7-8-20; 8:45 am]

BILLING CODE 3411-15-P